DEPARTMENT OF ENERGY

Federal Energy Regulatory Commission

[Project No. 13519-004]

Lock +™ Hydro Friends Fund XIX, LLC; Notice of Application Tendered for Filing With the Commission and Soliciting Additional Study Requests

Take notice that the following hydroelectric application has been filed with the Commission and is available for public inspection.

a. Type of Application: Original Major License.

b. Project No.: 13519-004.

c. Date Filed: December 28, 2016.

d. Applicant: Lock +™ Hydro Friends Fund XIX, LLC.

e. Name of Project: Claiborne Hydroelectric Project.

f. Location: On the Alabama River, in Monroe County, Alabama. The project would be located at the U.S. Army Corps of Engineers (Corps) Claiborne Lock and Dam.

g. Filed Pursuant to: Federal Power Act, 16 U.S.C. 791(a)-825(r).

h. Applicant Contact: Wayne Krouse, Hydro Green Energy, LLC, PO Box 43796, Birmingham Alabama 35243; (877) 556-6566 x709, or at wayne@hgenergy.com.

i. FERC Contact: Monte TerHaar at (202) 502-6035, or at monte.terhaar@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 27, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13519-004.

m. The application is not ready for environmental analysis at this time.

n. Project Description: The 19.6-megawatt project would be located at the Corps Claiborne Lock and Dam located on the Alabama River at River Mile 72.5. The project would utilize flows originating from the 60-mile-long Claiborne Reservoir and flows released from the Corps' dam. The project would operate in a run-of-release mode, utilizing flows as provided by the Corps. The principle features of the project include: (1) A new powerhouse, adjacent to the existing dam, housing fourteen 1,400 kilowatt bulb turbines; (2) an inflatable crest gate installed on top of the existing overflow spillway; and (3) a sub-station and 5.4-mile-long transmission line.

o. Locations of the Application: A copy of the application is available for review at the Commission in the Public Reference Room, or may be viewed on the Commission's Web site at http://www.ferc.gov using the “eLibrary” link. Enter the docket number, excluding the last three digits in the docket number field, to access the document. For assistance, please contact FERC Online Support at FERCOnlineSupport@ferc.gov, (866) 208-3676 (toll free), or (202) 502-8659 (TTY). A copy is also available for inspection and reproduction at the address in item (h) above.

p. You may also register online at http://www.ferc.gov/docs-filing/esubscription.asp to be notified via email of new filings and issuances related to this or other pending projects. For assistance, contact FERC Online Support.

Dated: January 13, 2017.
Kimberly D. Bose,
Secretary.

[FR Doc. 2017-01821 Filed 1-26-17; 8:45 am]

BILLING CODE 6717-01-P